DEPARTMENT OF THE INTERIOR

Bureau of Land Management

[CO-134-1610-DP-006C]

Notice of Availability of a Draft Resource Management Plan and Environmental Impact Statement for the Colorado Canyons National Conservation Area, Grand Junction Field Office in Mesa County

AGENCY: Bureau of Land Management.

ACTION: Notice of availability.

SUMMARY: In accordance with the National Environmental Policy Act (NEPA) of 1969, and the Federal Land Policy and Management Act (FLPMA) of 1976, the BLM has prepared a Draft Resource Management Plan/Environmental Impact Statement (DRMP/EIS) for the Colorado Canyons National Conservation Area (CCNCA) and is available for a 90-day public review and comment period. The planning area lies in Mesa County, Colorado and Grand County, Utah. The DRMP/EIS provides direction and guidance for the management of public lands and resources of the CCNCA, as well as monitoring and evaluation requirements, and impact analysis of the alternatives. The CCNCA RMP will amend the Grand Junction (CO) Resource Area Resource Management Plan (1987) and the Grand (UT) Resource Area Resource Management Plan (1985).

DATES: Written comments on the DRMP/EIS will be accepted for 90 days following the date that the Environmental Protection Agency publishes this notice in the Federal Register. Future public meetings and any other public involvement activities will be announced at least 15 days in advance through public notices, local media news releases, the project Web site at http://www.co.blm.gov/cocanplan/, and/or mailings.

ADDRESSES: Written comments should be sent to: Jane Ross, 2815 H Road, Grand Junction, Colorado 81506. Comments also may be sent by e-mail to Jane_Ross@co.blm.gov. Written comments, including names and addresses of respondents, will be available for public review at the offices of the BLM Grand Junction Field Office, 2815 H Road, Grand Junction, Colorado 81506, during normal working hours (7:30 a.m. to 4:30 p.m., except holidays). Submissions from organizations or businesses will be made available for public inspection in their entirety. Individuals may request confidentiality with respect to their name, address, and phone number. If you wish to have your name or street address withheld from public review, or from disclosure under the Freedom of Information Act, you must state this prominently at the beginning of your comment. Such requests will be honored to the extent allowed by law. Comment contents will not be kept confidential. Responses to the comments will be published as part of the Proposed Resource Management Plan/Final Environmental Impact Statement.

The DRMP/EIS and other associated documents or background information may be viewed and downloaded in PDF format at the project Web site at http://www.co.blm.gov/cocanplan/. Copies of the DRMP/EIS are available at the BLM Grand Junction Office at the address above, and at the BLM Moab (UT) Field Office, 82 E. Dogwood, Moab, UT 84532. Copies are also available at the following Mesa County Public Library District locations during regular business hours:

Central Library, 530 Grand Avenue, Grand Junction, CO 81501;

Fruita Branch, 325 East Aspen Avenue, Fruita, CO 81521;

Palisade Branch, 711 Iowa Street, Palisade, CO 81526;

Clifton Branch, Peachtree Shopping Center, 3225 I-70 Business Loop A-1, Clifton, CO 81520;

Orchard Mesa Branch, 2736 Unaweep Avenue, Grand Junction, CO 81503.

The planning documents and direct supporting record for the analysis for the DRMP/EIS will be available for inspection at the BLM Grand Junction Field Office during normal working hours, 7:30 a.m.-4:30 p.m.

FOR FURTHER INFORMATION CONTACT: For further information or to have your name added to our mailing list, contact Jane Ross (970) 244-3027, Planning and Environmental Coordinator (jane_ross@co.blm.gov), or Greg Gnesios at (970) 244-3049 (gregory_gnesios@co.blm.gov), Colorado Canyons NCA Manager, Bureau of Land Management, Grand Junction Field Office, 2815 H Road, Grand Junction, CO 81506.

SUPPLEMENTARY INFORMATION: The RMP will amend the Grand Junction RMP (1987) and may amend the Grand Resource Area [UT] RMP for the affected lands in the planning area. Some decisions in the existing planning and management documents may be carried forward into the new CCNCA RMP. Once approved in a Record of Decision (ROD), the RMP for the CCNCA will supercede all existing management plans for the public lands within the CCNCA. The DRMP/EIS evaluates the Existing Management Alternative, the Agency Preferred Alternative, and two other management alternatives developed for the CCNCA.

The CCNCA was officially designated on October 24, 2000, when the Colorado Canyons National Conservation Area and Black Ridge Canyons Wilderness Act of 2000 was signed into public law by the President. The purpose of the Act is to conserve, protect, and enhance, for the benefit and enjoyment of both present and future generations, the nationally important values of the public lands making up the CCNCA, including the Black Ridge Canyons, Ruby Canyon, and Rabbit Valley. The CCNCA, located west of Grand Junction, includes 122,300 rugged acres of sandstone canyons, natural arches, spires, and alcoves carved into the Colorado Plateau along a 24-mile stretch of the Colorado River. Included in the CCNCA are 75,550 acres of wilderness designated as the Black Ridge Canyons Wilderness. At the western boundary of the CCNCA, 5,200 acres stretch into eastern Utah.

The DRMP/EIS analyzes four alternatives that are summarized below. Preliminary issues identified by the BLM and used for developing alternatives include: (1) Travel management; (2) recreation; (3) use authorizations such as rights-of-way and grazing; (4) management of natural resources; (5) wilderness management; (6) integration of the CCNCA Management Plan with other agency and community plans; and (7) consideration of private property in the planning area. Some of the issues that have been identified in the scoping process phase of the CCNCA planning process include: motorized and non-motorized vehicle use, allocation of commercial recreation use, water quality, land health, threatened and endangered and special status species and critical habitat protection, reintroduction of native species, and noxious weed control. Other factors considered include recreation and resource use, protection of scenic values, the level and intensity of dispersed and developed recreation management, cultural resource protection and interpretation, public access, transportation and utility corridors, and woodland product harvest.

The public collaboration program implemented for this effort included the formation of a ten-member Advisory Council and four public collaboration working groups, three public open houses, the distribution of two newsletters, and also included workshops, training courses and field trips. During this process over 100 meetings were held with the public, during which 17 planning criteria were developed to help ensure consideration of issues important to the public. Planning criteria also include laws, regulations, policy, and other guidance. The complete list of the planning criteria can be found on the planning Web site at http://www.co.blm.gov/cocanplan/.

Alternative 1 is the no-action, or “continuation of existing management” alternative, that leaves all management of the area in its current management situation as guided by the Colorado Canyons National Conservation Area and Black Ridge Canyons Wilderness Act of 2000, the Ruby Canyon/Black Ridge Wilderness Integrated Management Plan, the Grand Junction Resource Area Resource Management Plan, The Interim Management Policy for BLM National Monuments and National Conservation Areas, and the Colorado State Director's Guidance for the CCNCA.

Alternative 2, the Recreation Emphasis Alternative, maximizes multiple-use, recreation opportunities while conserving and protecting traditional uses and protecting natural resources to the maximum extent possible. Objectives for Alternative 2 include preserving and enhancing traditional recreation activities—hiking, camping, mountain biking, OHV use, horseback riding, hunting, boating, backpacking; maintaining current land health and improving priority areas of concern using a higher percentage of non-native species as necessary to stabilize soils; and concentrating activities in certain areas as a method to control use and resource impacts and minimize dispersed resource impacts.

Alternative 3, the Adaptive Management and Agency Preferred Alternative, emphasizes maintaining the current level of enjoyment of the area's recreational opportunities and unique characteristics while recognizing that increased future use will trigger the need for increased levels of management. Monitoring for land health and visitors' beneficial experience will determine when increased levels of management are required. Objectives for this alternative include preserving the character of the area; preserving and enhancing traditional recreation activities—hiking, camping, mountain biking, OHV use, horseback riding, hunting, and boating; and maintaining land health and improving priority areas of concern.

Alternative 4, the Conservation Emphasis Alternative, focuses on maximizing the conservation of natural resources in the CCNCA while still maintaining traditional uses and recreational opportunities to the greatest extent possible. Objectives for this alternative include improving land health in all areas of concern, preserving the character of the area, and expanding education and interpretation opportunities in all areas.

Dated: August 22, 2003.
Gregory Gnesios,
Manager, Colorado Canyons National Conservation Area.

[FR Doc. 03-26649 Filed 10-21-03; 8:45 am]

BILLING CODE 4310-JB-P